DEPARTMENT OF LABOR

Employment and Training Administration

[TA-W-72,150; TA-W-72,150A]

Dell Products LP—Parmer North Location, a Subsidiary of Dell, Inc., Including On-Site Leased Workers From Belcan Services Group, Hawkins Associates, Inc., Integrated Human Capital, MagRabbit, Manpower and Spherion Corporation; Round Rock, TX; Dell Products LP—Parmer North One; Austin, TX; Amended Certification Regarding Eligibility To Apply for Worker Adjustment Assistance

In accordance with Section 223 of the Trade Act of 1974, as amended (“Act”), 19 U.S.C. 2273, the Department of Labor issued a Certification of Eligibility to Apply for Worker Adjustment Assistance on January 29, 2010, applicable to workers of the subject firm. The Department's Notice of determination was published in the Federal Register on March 5, 2010 (75 FR 10321). The workers are engaged in employment related to the production of computer equipment, such as workstations, servers, and other peripheral equipment.

At the request of the petitioners, the Department reviewed the certification for workers of the subject firm.

The petitioner provided sufficient information for the Department to determine that the appropriate subdivision of the subject firm covered by the immediate certification included an auxiliary facility located in Austin, Texas (Parmer North One).

Based on these findings, the Department is amending this certification to include workers at Parmer North One who are impacted by a shift of production of computer equipment by the subject firm to Mexico.

The amended notice applicable to TA-W-72,150 is hereby issued as follows:

All workers of Dell Products LP, Parmer North Location, a subsidiary of Dell, Inc., including on-site leased workers from Belcan Services Group, Hawkins Associates Inc., Integrated Human Capital, MagRabbit, Manpower, and Spherion Corporation, Round Rock, Texas (TA-W-72,150) and Dell Products LP, Parmer North One, Austin, Texas (TA-W-72,150A), who became totally or partially separated from employment on or after August 24, 2008 through January 29, 2012, and all workers in the group threatened with total or partial separation from employment on date of certification through January 29, 2012, are eligible to apply for adjustment assistance under Chapter 2 of Title II of the Trade Act of 1974, as amended.

Signed in Washington, DC, this 7th day of May, 2010.
Del Min Amy Chen,
Certifying Officer, Division of Trade Adjustment Assistance.

[FR Doc. 2010-12257 Filed 5-20-10; 8:45 am]

BILLING CODE 4510-FN-P